DEPARTMENT OF VETERANS AFFAIRS

Advisory Committee on Disability Compensation, Notice of Meeting

The Department of Veterans Affairs (VA) gives notice under the Federal Advisory Committee Act, 5 U.S.C. 10, the Department of Veterans Affairs Advisory Committee on Disability Compensation (Committee) will host a virtual meeting on May 22-May 23, 2023. The meeting sessions will begin and end as follows:

Dates | Times
Monday, May 22, 2023 | 9 a.m.-12:30 p.m. Eastern Standard Time (EST).
Tuesday, May 23, 2023 | 9 a.m.-12 p.m. EST.

The meeting sessions are open to the public.

The purpose of the Committee is to advise the Secretary of Veterans Affairs on the maintenance and periodic readjustment of the VA Schedule for Rating Disabilities (VASRD).

The Committee assembles and reviews relevant information relating to the nature and character of disabilities arising during service in the Armed Forces, provides an ongoing assessment of the effectiveness of the rating schedule, and gives advice on the most appropriate means of responding to the needs of Veterans relating to disability compensation.

The agenda will include updates on VASRD and briefings from various staffs on new and ongoing VA initiatives and priorities.

No time will be allocated at this virtual meeting for receiving oral presentations from the public. The public may submit one-page summaries of their written statements for the Committee's review. Public comments may be received no later than May 15, 2023, for inclusion in the official meeting record. Please send these comments to Jadine Piper, Veterans Benefits Administration, Compensation Service, at 21C_ACDC.VBACO@va.gov.

Members of the public who wish to obtain a copy of the agenda should contact Jadine Piper at 21C_ACDC.VBACO@va.gov, and provide their name, professional affiliation, email address and phone number. The call-in number (United States, Chicago) for those who would like to attend the meeting is: 872-701-0185; phone conference ID: 389 901 271#. Members of the public may also access the meeting by pasting the following URL into a web browser: https://msteams.link/2DKS.

Dated: April 18, 2023.
Jelessa M. Burney,
Federal Advisory Committee Management Officer.

[FR Doc. 2023-08463 Filed 4-20-23; 8:45 am]

BILLING CODE P